DEPARTMENT OF AGRICULTURE

Forest Service

36 CFR Parts 219 and 294

RIN 0596-AC05

National Forest System Land and Resource Management Planning; Special Areas; Roadless Area Conservation

AGENCY: Forest Service, USDA.

ACTION: Advance notice of proposed rulemaking; extension of comment period.

SUMMARY: Notice is hereby given that the public comment period is being extended for the advance notice of proposed rulemaking (ANPR) published on July 15, 2003 (68 FR 41864) to solicit public input concerning the applicability of the roadless area conservation rule published on January 12, 2001 (66 FR 3244) (the roadless rule), to both the Tongass and the Chugach National Forests in Alaska. The original comment period for this ANPR ended on August 14, 2003.

On July 10, 2001, the Forest Service published an ANPR (66 FR 35918) seeking public comment concerning how best to proceed with long-term protection and management of inventoried roadless areas. The 2001 ANPR expressed the Department's belief that inventoried roadless areas contain important environmental values that warrant protection, and identified a set of principles that would guide the Department in addressing this subject. This second ANPR solicits further public input concerning the applicability of the roadless rule to both the Tongass and the Chugach National Forests in Alaska.

In conjunction with this notice, the agency is publishing a separate notice of extension of the comment period for the proposed rule published on July 15, 2003 (68 FR 41865), to amend regulations concerning the roadless rule to temporarily exempt the Tongass National Forest from prohibitions against timber harvest, road construction, and reconstruction in inventoried roadless areas until a final rule is promulgated as announced by the Forest Service in the 2001 ANPR. The extension notice for the proposed rule has been published elsewhere in the same part of today's Federal Register.

The agency has received a large volume of responses to the advance notice of proposed rulemaking thus far; and therefore, has decided to provide the public additional time to comment. In seeking public comment on this advance notice of proposed rule, the agency is fulfilling part of the Department's obligations under the June 10, 2003 settlement agreement for State of Alaska v. USDA, while also maintaining the ecological values of inventoried roadless areas in the Tongass and Chugach National Forests. Public comment is invited and will be considered in the development of the proposed rule.

DATES: Comments must be postmarked by the new deadline of September 2, 2003.

ADDRESSES: Send written comments to: Roadless ANPR, USFS Content Analysis Team, P.O. Box 22777, Salt Lake City, Utah, 84122; by electronic mail to roadlessanpr@fs.fed.us; or by facsimile to (801) 880-3311. If you intend to submit comments in batched e-mails from the same server, please be aware that electronic security safeguards on Forest Service and Department of Agriculture computer systems intended to prevent commercial spamming may limit batched e-mail access. The Forest Service is interested in receiving all comments on this advance notice of proposed rulemaking, however, so please call (801) 517-1020 to facilitate transfer of comments in batched e-mail messages. Please note that all comments will be available for public inspection and copying. The agency cannot confirm receipt of comments. Individuals wishing to inspect the comments should call Jody Sutton at (801) 517-1023 to facilitate an appointment.

FOR FURTHER INFORMATION CONTACT: In Washington, DC contact: Dave Barone, Planning Specialist, Ecosystem Management Coordination Staff, Forest Service, USDA, (202) 205-1019; and in Juneau, Alaska contact: Jan Lerum, Regional Planner, Forest Service, USDA, (907) 586-8796.

Dated: August 14, 2003.
Dale N. Bosworth,
Chief.

[FR Doc. 03-21208 Filed 8-14-03; 2:29 pm]

BILLING CODE 3410-11-P